DEPARTMENT OF COMMERCE

Submission for OMB Review; Comment Request

The Department of Commerce (DOC) has submitted to the Office of Management and Budget (OMB) for clearance the following proposal for collection of information under provisions of the Paperwork Reduction Act (44 U.S.C. Chapter 35).

Agency: Bureau of Industry and Security (BIS).

Title: National Defense Authorization Act (NDAA).

Agency Form Number: BIS-742R, BIS-742S.

OMB Approval Number: 0694-0107.

Type of Request: Extention of a currently approved collection of information.

Burden: 35 hours.

Average Time Per Response: 15 minutes per response.

Number of Respondents: 140 respondents.

Needs and Uses: This collection of information is required as the result of the amending of the Export Administration Regulations (15 CFR parts 730-799) (EAR) by revising the (EAR) requirements for exports and reexports contained in Sections 1211-1215 of the National Defense Authorization Act (NDAA) for fiscal year 1998 (Pub. L. 105-85, 111 Stat. 1629), signed by the President on November 18, 1997. The Bureau of Industry and Security (BIS) needs the information in this collection to fulfill two requirements of the National Defense Authorization Act for Fiscal Year 1998 (NDAA). Those requirements are: (1) Proposed exports and reexports of high performance computers to specific countries must be reviewed by enumerated government agencies prior to the export and (2) that the government conduct a “post shipment verification” of each high performance computer exported to those countries after November 17, 1997. Both of these requirements are new and were imposed by the Congress with the passage of the NDAA. To simplify the latter, BIS has developed a new form that will incorporate the relevant data elements and replace the written report, thereby standardizing the data format for the applicant, and enabling the use of information technology in the processing of the data.

Affected Public: Individuals, businesses or other for-profit institutions.

Respondent's Obligation: Mandatory.

OMB Desk Officer: David Rostker.

Copies of the above information collection proposal can be obtained by calling or writing Diana Hynek, DOC Paperwork Clearance Officer, (202) 482-3129, Department of Commerce, Room 6625, 14th and Constitution Avenue, NW., Washington, DC 20230 or via e-mail at dhynek@doc.gov.

Written comments and recommendations for the proposed information collection should be sent within 30 days of publication of this notice to David Rostker, OMB Desk Officer, e-mail address, David_Rostker@omb.eop.gov, or fax number, (202) 395-7285.

Dated: June 13, 2005.
Madeleine Clayton,
Management Analyst, Office of the Chief Information Officer.

[FR Doc. 05-11890 Filed 6-15-05; 8:45 am]

BILLING CODE 3510-DT-P